FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel-Operating Common Carrier Ocean Transportation Intermediary Applicants

All West Coast Shipping Inc. dba West Coast Shipping, 1065 Broadway Avenue, San Pablo, CA 94806. Officer: Hwi (Henry) K. Cho, Vice President (Qualifying Individual).

Nippon Express U.S.A., Inc., 590 Madison Ave., Ste. 2401, New York, NY 10022-2524. Officer: Hirotaka Hara, Vice President (Qualifying Individual).

Worldunimax Logistics, Inc., 16901 S. Keegan Avenue, Carson, CA 90746. Officer: David J. Park, President (Qualifying Individual).

Logical Freight, Inc., 555 S. Isis Avenue, Inglewood, CA 90301. Officer: Ruben J. Gomez, President (Qualifying Individual).

Kls Logistics Group LLC, dba Key Logistics Solutions, 1563 NW. 82nd Avenue, Miami, FL 33126. Officer: Daniel A. Domaszewski, President (Qualifying Individual).

Levin & Haydak Investments, LLC, 2631 Industrial Way, Vineland, NJ 08360. Officer: Robert J. Haydak, Jr., Managing Partner (Qualifying Individual).

Marine Logistics Incorporated dba Petro, Marine International, 15110 Ripplewind Lane, Houston, TX 77068. Officer: Kathy L. Wilson, President (Qualifying Individual).

Non-Vessel-Operating Common Carrier and Ocean Freight Forwarder Transportation Intermediary Applicants

Service Shipping, Inc. dba SSI Lines, 38104 Academy Drive, Lake Villa, IL 60046. Officer: William J. Marston, President (Qualifying Individual).

H T International, 281 E. Redondo Beach Blvd., Gardena, CA 90248. Officer: Glenda M. Valdez, President (Qualifying Individual).

Excel Cargo Services Inc. dba CaribEx Worldwide, 4248 Piedmont Parkway, Greensboro, NC 27410. Officer: Joseph R. Chatt, Jr., Vice President (Qualifying Individual).

Randall James Boud dba Godspeed Logistics, 344 Moyer Station Road, Schuylkill Haven, PA 17927. Sole Proprietor.

Ocean Freight Forwarder—Ocean Transportation Intermediary Applicants

CDS Air Freight, Inc., 107 Executive Drive, Ste. A, Dulles, VA 20166. Officer: Joseph J. Place, President (Qualifying Individual).

Diamond Logistics, LLC, 9500 S. De Wolf Avenue, Selma, CA 93662. Officers: Gerome C. Blomgren, Manager (Qualifying Individual), Bruce Lion, Member.

Dated: June 26, 2009.
Karen V. Gregory,
Secretary.

[FR Doc. E9-16108 Filed 7-7-09; 8:45 am]

BILLING CODE P